DEPARTMENT OF DEFENSE

Department of the Army

Availability of U.S. Patents for Non-Exclusive, Exclusive, or Partially-Exclusive Licensing

AGENCY: U.S. Army Research Laboratory, Adelphi, Maryland, DoD.

ACTION: Notice.

SUMMARY: In accordance with 37 CFR 404.6, announcement is made of the availability of the following U.S. patent for non-exclusive, partially exclusive or exclusive licensing. The listed patent has been assigned to the United States of America as represented by the Secretary of the Army, Washington, DC.

These patents covers a wide variety of technical arts including: A drawbar that facilities engagement from a loaded shipsheet and an apparatus for tracking a human eye with retinal scanning display.

Under the authority of section 11(a)(2) of the Federal Technology Transfer Act of 1986 (Pub. L. 99-502) and section 207 of Title 35, United States Code, the Department of the Army as represented by the U.S. Army Research Laboratory wish to license the U.S. patent listed below in a non-exclusive, exclusive or partially exclusive manner to any party interested in manufacturing, using, and/or selling devices or processes covered by this patent.

Title: Appartus for Tracking the Human Eye with a Rentinal Scanning Display, and Method Thereof.

Inventor: Christopher C. Smyth.

Patent Number: 6,120,461.

Issued Date: September 19, 2000.

Title: Method of Maneuvering a Slipsheeted Load and Drawbar Devise Therefor.

Inventor: Jeffrey D. Nickel and John J. Salser.

Patent Number: 6,120,238.

Issued Date: September 19, 2000.

FOR FURTHER INFORMATION CONTACT: Michael Rausa, Technology Transfer Office, AMSRL-CS-TT, U.S. Army Research Laboratory, Aberdeen Proving Ground, MD 21005-5055 tel: (401) 278-5028; fax: (401) 278-5820.

SUPPLEMENTARY INFORMATION: None.

John A. Hall,
Alternate Army Federal Register Liaison Officer.

[FR Doc. 01-767 Filed 1-9-01; 8:45 am]

BILLING CODE 3710-08-M